Title 3—

The President

Executive Order 14111 of November 27, 2023

Interagency Security Committee

By the authority vested in me as President by the Constitution and the laws of the United States of America, and in order to enhance the quality and effectiveness of security in and protection of buildings and facilities in the United States occupied by Federal employees or Federal contractor workers for nonmilitary activities, and to provide an ongoing entity to address continuing Government-wide security for Federal facilities, it is hereby ordered as follows:

Section 1. Establishment. There is hereby established the Interagency Security Committee (Committee). The Committee shall consist of:

(a) the Secretary of Homeland Security (Secretary);

(b) representatives from the following executive departments and agencies (agencies), designated by the heads of such agencies:

(i) the Department of State;

(ii) the Department of the Treasury;

(iii) the Department of Defense;

(iv) the Department of Justice;

(v) the Department of the Interior;

(vi) the Department of Agriculture;

(vii) the Department of Commerce;

(viii) the Department of Labor;

(ix) the Department of Health and Human Services;

(x) the Department of Housing and Urban Development;

(xi) the Department of Transportation;

(xii) the Department of Energy;

(xiii) the Department of Education;

(xiv) the Department of Veterans Affairs;

(xv) the Environmental Protection Agency;

(xvi) the Office of Management and Budget;

(xvii) the Office of the Director of National Intelligence; and

(xviii) the General Services Administration;

(c) the following officials or their designees:

(i) the Director of the United States Marshals Service;

(ii) the Director of the Federal Protective Service;

(iii) the Director of the Central Intelligence Agency;

(iv) the Director of the Office of Personnel Management; and

(v) the Director of the Federal Bureau of Investigation; and

(d) such other Federal officials as the President may from time to time designate.

Sec. 2. Chair. The Committee shall be chaired by the Secretary or the designee of the Secretary.

Sec. 3. Working Groups. The Committee is authorized to establish interagency working groups to perform such tasks as may be directed by the Committee.

Sec. 4. Consultation. The Committee may consult with officials in other Federal Government entities, including the Administrative Office of the United States Courts and the United States Postal Service, to perform its responsibilities under this order, and, at the discretion of the Committee, officials from other Federal Government entities may participate in the interagency working groups.

Sec. 5. Duties and Responsibilities. The Committee shall:

(a) establish policies and standards for security in and protection of Federal facilities;

(b) evaluate existing security standards for Federal facilities and develop a strategy to monitor the implementation of such standards to ensure compliance by agencies;

(c) take such actions as may be necessary to enhance the quality and effectiveness of security in and protection of Federal facilities, including:

(i) encouraging agencies with security responsibilities to share security-related intelligence in a timely and cooperative manner;

(ii) assessing technology and information systems as means of providing cost-effective improvements to security in Federal facilities;

(iii) developing long-term construction standards for those locations with threat levels or missions that require blast-resistant structures or other specialized security requirements;

(iv) evaluating standards for the location of, and special security related to, child care centers in Federal facilities;

(v) assisting the Secretary in developing and maintaining a centralized security database of all Federal facilities; and

(vi) providing best practices for securing a mobile Federal workforce; and

(d) no later than 1 year after the date of this order and biennially thereafter, prepare and provide to the Director of the Office of Management and Budget and the Assistant to the President for National Security Affairs a summary report describing the results of compliance under subsection 6(c) of this order.

Sec. 6. Agency Support and Cooperation. (a) To the extent permitted by law and subject to the availability of appropriations, the Secretary shall provide the Committee such administrative services, funds, facilities, staff, and other support services as may be necessary for the performance of its functions under this order.

(b) Each agency shall cooperate and comply with the requirements of this order and the policies and standards of the Committee issued pursuant to this order, except in situations in which the Director of National Intelligence, or other United States Intelligence Community official within the Office of the Director of National Intelligence designated by the Director of National Intelligence, determines that compliance would jeopardize intelligence sources and methods. To the extent permitted by law and subject to the availability of appropriations, agencies shall provide such cooperation and compliance as may be necessary to enable the Committee to perform its duties and responsibilities under this order.

(i) Each agency shall designate a senior official who shall be responsible for agency implementation of, and compliance with, this order.

(ii) The senior official shall ensure that the official's agency supports Facility Security Committees, as applicable, in the performance of the official's duties.

(c) The Secretary shall monitor agency compliance with the policies and standards of the Committee. Monitoring compliance shall consist, at a minimum, of the following:

(i) maintaining compliance benchmarks to measure compliance progress;

(ii) requiring periodic compliance reporting by all relevant agencies; and

(iii) conducting risk-based compliance verification.

(d) In situations in which a Federal facility is occupied by multiple agencies for both military and nonmilitary activities, and each such occupancy is substantial, those occupants shall coordinate on the security of the facility.

Sec. 7. Administrative Provision. This order supersedes Executive Order 12977 of October 19, 1995 (Interagency Security Committee), which is hereby revoked. To the extent that this order is inconsistent with any provision of any previous Executive Order or Presidential Memorandum, this order shall control. All policies and standards implemented by the Interagency Security Committee that was established pursuant to Executive Order 12977 shall remain in effect until rescinded or replaced by the Committee established pursuant to this order.

Sec. 8. Definitions. For purposes of this order:

(a) “Agency” means an executive agency, as defined in section 105 of title 5, United States Code.

(b) “Federal facility” means a federally owned or leased building, structure, or the land it resides on, in whole or in part, that is regularly occupied by Federal employees or Federal contractor workers for nonmilitary activities. The term “Federal facility” also means any building or structure acquired by a contractor through ownership or leasehold interest, in whole or in part, solely for the purpose of executing a nonmilitary Federal mission or function under the direction of an agency. The term “Federal facility” does not include public domain land, including improvements thereon; withdrawn lands; or buildings or facilities outside of the United States.

(c) “Federal employee” means an employee, as defined in section 2105 of title 5, United States Code, of an agency.

(d) “Federal contractor worker” means any individual who performs work for or on behalf of any agency under a contract, subcontract, or contract-like instrument and who, in order to perform the work specified under the contract, subcontract, or contract-like instrument, requires access to space, information, information technology systems, staff, or other assets of the Federal Government in buildings and facilities of the United States. Such contracts include the following:

(i) personal service contracts;

(ii) contracts between any non-Federal entity and any agency; and

(iii) subcontracts between any non-Federal entity and another non-Federal entity to perform work related to the primary contract with an agency.

(e) “Facility Security Committee” means a committee that is established in accordance with an Interagency Security Committee standard, and that is responsible for addressing facility-specific security issues and approving the implementation of security measures and practices in multi-tenant facilities.

Sec. 9. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

November 27, 2023.

[FR Doc. 2023-26569

Filed 11-30-23; 8:45 am]

Billing code 3395-F4-P